DEPARTMENT OF AGRICULTURE

Submission for OMB Review; Comment Request

November 21, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: National School Lunch Program: School Food Service Account Revenue Amendments Related to the Healthy, Hunger-Free Kids Act.

OMB Control Number: 0584-NEW.

Summary of Collection: The Food and Nutrition Service (FNS) published an interim rule that amended the School Lunch Program (NSLP) regulations to conform to requirements contained in the Healthy, Hunger-Free Kids Act of 2010 (Pub. L. 111-296) regarding equity in school lunch pricing and revenue from nonprogram foods sold in schools. The rule requires school food authorities participating in the NSLP to provide the same level of financial support for lunches served to students who are not eligible for free or reduced price lunches as is provided for lunches served students eligible for free lunches.

Need and Use of the Information: FNS will collect information using FNS-828, School Food Authority Paid Lunch Price Report. The information collected will be used to monitor the school food authority and the State agency compliance on the rule, without the information collected from School Food Service Accounts Revenue.

Description of Respondents: State, Local or Tribal Govt.; Not-for-profit institutions; Federal Government.

Number of Respondents: 20,915.

Frequency of Responses: Recordkeeping; Reporting: On occasion.

Total Burden Hours: 322,827.

Ruth Brown,
Departmental Information Collection Clearance Officer.

[FR Doc. 2011-30432 Filed 11-25-11; 8:45 a.m.]

BILLING CODE 3410-30-P